DEPARTMENT OF AGRICULTURE

National Agricultural Statistics Service

Notice of the Advisory Committee on Agriculture Statistics Meeting

AGENCY: National Agricultural Statistics Service, USDA.

ACTION: Notice of public meeting.

SUMMARY: In accordance with the Federal Advisory Committee Act, the National Agricultural Statistics Service (NASS) announces a meeting of the Advisory Committee on Agriculture Statistics.

DATES: The Committee meeting will be held from 8:30 a.m. to 5:30 p.m. on Wednesday, November 13, 2013, and from 8:00 a.m. to 12:30 p.m. on Thursday, November 14, 2013. There will be an opportunity for public questions and comments at 9:45 a.m. on November 14, 2013. All times mentioned herein refer to Central Standard Time.

ADDRESSES: The Committee meeting on November 13, 2013 will take place at the NASS National Operations Center, 9700 Page Avenue, Suite 400, St. Louis, Missouri, 63132. The Committee will meet on November 14, 2013, at the Doubletree by Hilton-Westport, 1973 Craigshire Road, St. Louis, Missouri, 63146. Written comments may be filed before or up to two weeks after the meeting with the contact person identified herein at: U.S. Department of Agriculture, National Agricultural Statistics Service, 1400 Independence Avenue SW., Room 5029, South Building, Washington, DC 20250-2000.

FOR FURTHER INFORMATION CONTACT: Hubert Hamer, Executive Director, Advisory Committee on Agriculture Statistics, telephone: 202-690-8141, fax: 202-690-1311, or email: hubert.hamer@nass.usda.gov. General information about the committee can also be found at www.nass.usda.gov/about_nass.

SUPPLEMENTARY INFORMATION: The Advisory Committee on Agriculture Statistics, which consists of 20 members appointed from 7 categories covering a broad range of agricultural disciplines and interests, has scheduled a meeting on November 13-14, 2013. During this time the Advisory Committee will discuss topics including the status of NASS programs, Census of Agriculture Updates, Census of Agriculture Follow-on Survey Plans, and the NASS 5-Year Operating Plan Initiatives.

The Committee meeting is open to the public. The public is asked to pre-register for the meeting at least 10 business days prior to the meeting. Your pre-registration must state the names of each person in your group, organization, or interest represented; the number of people planning to give oral comments, if any; and whether anyone in your group requires special accommodations. Submit registrations to Executive Secretary, Advisory Committee on Agriculture Statistics, via fax: 202-690-1311, or email: hq_dapp@nass.usda.gov. Members of the public who request to give oral comments to the Committee must arrive at the meeting site by 8:45 a.m. on Thursday, November 14, 2013. Written comments by attendees or other interested stakeholders will be welcomed for the public record before and up to two weeks following the meeting. The public may file written comments by mail to the Executive Director, Advisory Committee on Agriculture Statistics, U.S. Department of Agriculture, National Agricultural Statistics Service, 1400 Independence Avenue SW., Room 5029 South Building, Washington, DC 20250-2000. Written comments can also be sent via fax: 202-690-1311, or email: hq_dapp@nass.usda.gov. All statements will become a part of the official records of the USDA Advisory Committee on Agriculture Statistics and will be kept on file for public review in the office of the Executive Director, Advisory Committee on Agriculture Statistics, U.S. Department of Agriculture, Washington, DC 20250.

Signed at Washington, DC, September 5, 2013.
Joseph T. Reilly,
Associate Administrator, National Agricultural Statistics Service.

[FR Doc. 2013-22325 Filed 9-12-13; 8:45 am]

BILLING CODE 3410-20-P